DEPARTMENT OF ENERGY

Federal Energy Regulatory Commission

Combined Notice of Filings #1

May 24, 2010.

Take notice that the Commission received the following electric rate filings:

Docket Numbers: ER09-934-004; ER09-936-001.

Applicants: Bangor Hydro Electric Company.

Description: Offer of Settlement of Bangor Hydro Electric Company.

Filed Date: 05/24/2010.

Accession Number: 20100524-5035.

Comment Date: 5 p.m. Eastern Time on Monday, June 14, 2010.

Docket Numbers: ER09-1589-003.

Applicants: FirstEnergy Service Company.

Description: Request for Waiver for Demand Response Participating in FRR Integration Auctions of FirstEnergy Service Company.

Filed Date: 05/20/2010.

Accession Number: 20100520-5129.

Comment Date: 5 p.m. Eastern Time on Thursday, June 10, 2010.

Docket Numbers: ER10-550-002.

Applicants: Southwest Power Pool Inc.

Description: Southwest Power Pool, Inc submits Seventh Revised Sheet 14 et al. to FERC Electric Tariff, Fifth Revised Volume 1.

Filed Date: 05/21/2010.

Accession Number: 20100524-0201.

Comment Date: 5 p.m. Eastern Time on Friday, June 11, 2010.

Docket Numbers: ER10-792-002.

Applicants: TC Energy Trading, LLC.

Description: TC Energy Trading, LLC submits errata to revise the title of the issuer of the tariff sheets.

Filed Date: 05/21/2010.

Accession Number: 20100521-0209.

Comment Date: 5 p.m. Eastern Time on Friday, June 11, 2010.

Docket Numbers: ER09-877-001.

Applicants: Entergy Arkansas, Inc.

Description: Compliance Refund Report of Entergy Services, Inc.

Filed Date: 05/21/2010.

Accession Number: 20100521-5103.

Comment Date: 5 p.m. Eastern Time on Friday, June 11, 2010.

Docket Numbers: ER10-1289-000.

Applicants: California Independent System Operator Corporation.

Description: The California Independent System Operator Corporation submits Commission filing and acceptance of amendment to Service Agreement 798 and Termination of Service Agreement 584.

Filed Date: 05/21/2010.

Accession Number: 20100521-0206.

Comment Date: 5 p.m. Eastern Time on Friday, June 11, 2010.

Docket Numbers: ER10-1290-000.

Applicants: San Diego Gas & Electric Company.

Description: San Diego Gas & Electric Company submits tariff filing per 35: San Diego Gas & Electric Company Market Based Rates Tariff to be effective 5/21/2010.

Filed Date: 05/21/2010.

Accession Number: 20100521-5070.

Comment Date: 5 p.m. Eastern Time on Friday, June 11, 2010.

Docket Numbers: ER10-1291-000.

Applicants: GenConn Energy LLC.

Description: GenConn Energy LLC submits tariff filing per 35.12: Initial Filing of Market-Based Rate Tariff to be effective 5/21/2010.

Filed Date: 05/21/2010.

Accession Number: 20100521-5113.

Comment Date: 5 p.m. Eastern Time on Friday, June 11, 2010.

Docket Numbers: ER10-1292-000.

Applicants: CMS Energy Resource Management Company.

Description: CMS Energy Resource Management Company submits tariff filing under Schedule No. 1 Electric Tariff, to be effective 5/25/2010.

Filed Date: 05/24/2010.

Accession Number: 20100524-5013.

Comment Date: 5 p.m. Eastern Time on Monday, June 14, 2010.

Docket Numbers: ER10-1293-000.

Applicants: American Electric Power Service Corporation.

Description: AEP Texas Central Company submits Service Agreement 531 et al. to FERC Electric Tariff, Third Revised Volume 6.

Filed Date: 05/21/2010.

Accession Number: 20100524-0203.

Comment Date: 5 p.m. Eastern Time on Friday, June 11, 2010.

Docket Numbers: ER10-1294-000.

Applicants: Southern California Edison Company.

Description: Southern California Edison Company submits letter agreement with Solar Millennium, LLC.

Filed Date: 05/21/2010.

Accession Number: 20100524-0204.

Comment Date: 5 p.m. Eastern Time on Friday, June 11, 2010.

Docket Numbers: ER10-1295-000.

Applicants: PJM Interconnection L.L.C.

Description: PJM Interconnection, LLC submits an executed Interconnection Construction Service Agreement with Synergics Wind Energy, LLC et al.

Filed Date: 05/21/2010.

Accession Number: 20100524-0205.

Comment Date: 5 p.m. Eastern Time on Friday, June 11, 2010.

Docket Numbers: ER10-1296-000.

Applicants: Wisconsin Electric Power Company.

Description: Wisconsin Electric Power Company submits Original Sheet 2 et al. to FERC Electric Tariff, Original Volume 10 to be effective 7/21/10.

Filed Date: 05/21/2010.

Accession Number: 20100524-0200.

Comment Date: 5 p.m. Eastern Time on Friday, June 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above do not institute a proceeding regarding qualifying facility status. A notice of self-certification [or self-recertification] simply provides notification that the entity making the filing has determined the facility named in the notice meets the applicable criteria to be a qualifying facility. Intervention and/or protests do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-13172 Filed 6-1-10; 8:45 am]

BILLING CODE 6717-01-P